DEPARTMENT OF EDUCATION

[Docket No.: ED-2022-SCC-0036]

Agency Information Collection Activities; Comment Request; 2024 Teaching and Learning International Survey (TALIS 2024) Main Study Recruitment and Field Test

AGENCY: Institute of Educational Science (IES), Department of Education (ED).

ACTION: Notice.

SUMMARY: In accordance with the Paperwork Reduction Act of 1995, ED is proposing a reinstatement with change of a previously approved information collection.

DATES: Interested persons are invited to submit comments on or before May 10, 2022.

ADDRESSES: To access and review all the documents related to the information collection listed in this notice, please use http://www.regulations.gov by searching the Docket ID number ED-2022-SCC-0036. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208B, Washington, DC 20202-8240.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2024 Teaching and Learning International Survey (TALIS 2024) Main Study Recruitment and Field Test.

OMB Control Number: 1850-0888.

Type of Review: A reinstatement with change of a currently approved information collection.

Respondents/Affected Public: Individuals and Households.

Total Estimated Number of Annual Responses: 2,683.

Total Estimated Number of Annual Burden Hours: 3,133.

Abstract: The Teaching and Learning International Survey (TALIS) is an international survey of teachers and principals focusing on the working conditions of teachers and the teaching and learning practices in schools. The United States will administer TALIS for the third time in 2024, having participated in 2013 and 2018. TALIS 2024 is sponsored by the Organization for Economic Cooperation and Development (OECD). TALIS is steered by the TALIS Governing Board (TGB), comprising representatives from the OECD member countries, and implemented internationally by organizations contracted by the OECD (referred to as the “international consortium” or “IC”). In the U.S., TALIS 2024 is conducted by the National Center for Education Statistics (NCES) of the Institute of Education Sciences, U.S. Department of Education.

TALIS 2024 is focused on teachers' professional environment, teaching conditions, and their impact on school and teacher effectiveness. TALIS 2024 will address teacher training and professional development, teacher appraisal, school climate, school leadership, instructional approaches, pedagogical practices, and teaching experience with and support for teaching diverse populations.

OECD has scheduled the main study to occur in the Northern hemisphere from February through March 2024 and in the Southern hemisphere from June through August 2024. To prepare for the main study, several TALIS countries will conduct pilot studies in February 2022; the U.S. will not participate. Countries will also conduct a field test in the first quarter of 2023, primarily to evaluate newly developed questionnaire items and school recruitment materials; the U.S. will participate in the field test. To meet the international data collection schedule for the field test, U.S. recruitment activities need to begin by August 2022 and U.S. questionnaires must be finalized by December 2022.

TALIS 2024 includes the core TALIS teacher and principal surveys that are required for each participating country, as well as an optional Teacher Knowledge Survey (TKS). The TKS is intended to better understand the teacher pedagogical knowledge base at the national level. The US is including the TKS in the upcoming TALIS 2024 field test and will evaluate these results to determine the feasibility of including TKS as part of the US Main Study.

This submission requests approval for: Recruitment and pre-survey activities for the 2023 field test sample; administration of the field test; and school recruitment and pre-survey activities for the 2024 main study sample. The materials that will be used in the 2024 main study will be based upon the field test materials included in this submission. Additionally, this submission is designed to adequately justify the need for and overall practical utility of the full study and to present the overarching plan for all phases of the data collection, providing as much detail about the measures to be used as is available at the time of this submission. As part of this submission, NCES is publishing a notice in the Federal Register allowing first a 60- and then a 30-day public comment period. For the final proposal for the full study, after the field test NCES will publish a notice in the Federal Register allowing an additional 30-day public comment period on the final details of the 2024 main study.

Dated: March 8, 2022.
Stephanie Valentine,
PRA Coordinator, Strategic Collections and Clearance, Governance and Strategy Division, Office of Chief Data Officer, Office of Planning, Evaluation and Policy Development.

[FR Doc. 2022-05219 Filed 3-10-22; 8:45 am]

BILLING CODE 4000-01-P